DEPARTMENT OF THE TREASURY

Internal Revenue Service

26 CFR Part 31

[REG-158747-06]

RIN 1545-BG45

Withholding Under Internal Revenue Code Section 3402(t); Correction

AGENCY: Internal Revenue Service (IRS), Treasury.

ACTION: Correction to notice of proposed rulemaking.

SUMMARY: This document contains a correction to a notice of proposed rulemaking (REG-158747-06) that was published in the Federal Register on Friday, December 5, 2008 (73 FR 74082) relating to withholding under section 3402(t) of the Internal Revenue Code.

The proposed regulations reflect changes in the law made by the Tax Increase Prevention and Reconciliation Act of 2005 that require Federal, State, and local government entities to withhold income tax when making payments to persons providing property or services. These proposed regulations provide guidance to assist the government entities in complying with section 3402(t). The regulations also provide certain guidance to persons receiving payments for property or services from government entities.

FOR FURTHER INFORMATION CONTACT: Jean Casey, (202) 622-6040 (not a toll-free number).

SUPPLEMENTARY INFORMATION:

Background

The correction notice that is the subject of this document is under sections 3402, 3406, 6011, 6051, 6071, and 6302 of the Internal Revenue Code.

Need for Correction

As published, the notice of proposed rulemaking (REG-158747-06) contains an error that may prove to be misleading and is in need of clarification.

Correction of Publication

Accordingly, the publication of the notice of proposed rulemaking (REG-158747-06), which was the subject of FR Doc. E8-28789, is corrected as follows:

On page 74087, column 3, in the preamble, under the paragraph heading “Exception for Certain Payments Received by Nonresident Alien Individuals and Foreign Corporations”, second paragraph of the column, line 7, the language “under 3402(t) would be unduly” is corrected to read “under section 3402(t) would be unduly”.

Guy Traynor,
Acting Chief, Publications and Regulations Branch, Legal Processing Division, Associate Chief Counsel, (Procedure and Administration).

[FR Doc. E9-85 Filed 1-7-09; 8:45 am]

BILLING CODE 4830-01-P